DEPARTMENT OF HEALTH AND HUMAN SERVICES

Centers for Medicare & Medicaid Services

[CMS-5025-CN]

RIN 0938-ZA51

Medicare Program; Medicare Replacement Drug Demonstration; Correction

AGENCY: Centers for Medicare & Medicaid Services (CMS), HHS.

ACTION: Notice; correction.

SUMMARY: This document corrects technical and typographical errors that appeared in the notice published in the Federal Register on June 29, 2004 entitled “Medicare Replacement Drug Demonstration (69 FR 38898).” That notice announced the implementation of a demonstration that would pay through December 31, 2005 under Medicare Part B for drugs and biologicals that are prescribed as replacements for existing covered Medicare drugs and biologicals described in section 1861(s)(2)(A) or 1861(s)(2)(Q), or both, of title XVIII of the Social Security Act.

DATES: Effective June 29, 2004.

FOR FURTHER INFORMATION CONTACT: Jody Blatt, (410) 786-6921.

SUPPLEMENTARY INFORMATION:

I. Background

In FR Doc. 04-14673 of June 29, 2004 (69 FR 38898), there were a number of technical and typographical errors that are identified and corrected in the Correction of Errors section below. The provisions in this correction notice are effective as if they were included in the document published June 29, 2004. Accordingly, the corrections are effective June 29, 2004.

II. Correction of Errors

In FR Doc. 04-14673 of June 29, 2004 (69 FR 38898), make the following corrections:

1. On page 38899, in the table, in the first column, the term entitled “Chronic Myelogenous Lymphoma” is corrected to read “Chronic Myelogenous Leukemia.”

2. On page 38899, in the table, in the first column, the term entitled “Anaplastic astrocytoma” is removed. Temodar, which treats anaplastic astrocytoma, is already covered under Medicare Part B and will not be covered under this demonstration.

3. On page 38899, in the table, in the second column, the drug entitled “Pegalated interferon alfa-2a (PEG-Intron)” is corrected to read “Pegylated interferon alfa-2b (PEG-Intron).”

4. On page 38899, in the table, in the second column the drug entitled “Temozolomide (Temodar)” is removed. Temodar is already covered under Medicare Part B and will not be covered under this demonstration.

5. On page 38900, in the first column, in the fourth paragraph, in the seventh and eighth lines, the words “Advance PCS, a Caremark Company (Caremark),” are corrected to read “Caremark.” The correct reference to this company is Caremark, not Advance PCS, a Caremark Company.

6. On page 38902, in the third column, in the first through eighth lines, remove the sentence “The rules for low-income assistance, including coverage levels and determination of eligibility, have been established to be consistent with what will be in effect in 2006 when the Medicare Part D drug benefit is implemented.” Rules established for this demonstration apply only to this demonstration and do not necessarily reflect how the Medicare Part D benefit will be implemented.

7. On page 38903, in Table 1A, the following sentence is added to the footnote, “Under the different low income benefit levels, subsidies by Medicare as well as out-of-pocket payments by the beneficiary count towards the out-of-pocket catastrophic limit.”

8. On page 38904, in Table 1B, in the second column, under the heading entitled “Benefit Level 1 (Standard),” in the third row, the amount “$1,350” is corrected to read “$2,850.”

9. On page 38904, in Table 1B, the following sentence is added to the footnote, “Under the different low income benefit levels, subsidies by Medicare as well as out-of-pocket payments by the beneficiary count towards the out-of-pocket catastrophic limit.”

III. Waiver of Proposed Rulemaking

We ordinarily publish a notice of proposed rulemaking in the Federal Register to provide a period for public comment before the provisions of a notice take effect. We can waive this procedure, however, if we find good cause that notice and comment procedure is impracticable, unnecessary, or contrary to the public interest and incorporate a statement of the finding and the reasons for it into the notice issued.

We find it unnecessary to undertake notice and comment rulemaking because this notice merely provides technical corrections to the notice. Therefore, we find good cause to waive notice and comment procedures.

(Catalog of Federal Domestic Assistance Program No. 93.774, Medicare—Supplementary Medical Insurance Program)

Dated: August 4, 2004.
Jacquelyn Y. White,
Director, Office of Strategic Operations and Regulatory Affairs.

[FR Doc. 04-18643 Filed 8-26-04; 8:45 am]

BILLING CODE 4120-01-P